DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Financial Assistance Information Collection, OMB Control Number 1910-0400. This information collection request covers information necessary to administer and manage DOE's financial assistance programs.

DATES: Comments regarding this collection must be received on or before January 13, 2020. If you anticipate difficulty in submitting comments within that period or if you want access to the collection of information, without charge, contact the OMB Desk Officer for DOE listed below as soon as possible.

ADDRESSES: Written comments should be sent to the following: DOE Desk Officer, Office of Information and Regulatory Affairs, Office of Management and Budget, New Executive Office Building, Room 10102, 735 17th Street NW, Washington, DC 20503.

And to: Richard Bonnell, U.S. Department of Energy, Office of Acquisition Management, 1000 Independence Avenue SW, Washington, DC 20585-0121, Or by email at Richard.bonnell@hq.doe.gov.

FOR FURTHER INFORMATION CONTACT: Richard Bonnell by email at richard.bonnell@hq.doe.gov or telephone (202) 287-1747. Please put “2020 DOE Agency Information Collection Renewal-Financial Assistance” in the subject line when sending an email.

SUPPLEMENTARY INFORMATION: This information collection request contains: (1) OMB No.: 1910-0400 (Renewal); (2) Information Collection Request Title: DOE Financial Assistance Information Clearance; (3) Type of Request: Renewal; (4) Purpose: This information collection package covers mandatory information collections necessary to annually plan, solicit, negotiate, award, administer, and closeout grants and cooperative agreements under the Department's financial assistance programs. The information is used by Departmental management to exercise management oversight with respect to implementation of applicable statutory and regulatory requirements and obligations. The collection of this information is critical to ensure that the Government has sufficient information to judge the degree to which awardees meet the terms of their agreements; that public funds are spent in the manner intended; and that fraud, waste, and abuse are immediately detected and eliminated; (5) Annual Estimated Number of Respondents: 10,125; (6) Annual Estimated Number of Total Responses: 36,714; (7) Estimated Number of Burden Hours: 524,040; and (8) Annual Estimated Reporting and Recordkeeping Cost Burden: $0.

Statutory Authority: Federal Grant and Cooperative Agreement Act, 31 U.S.C. 6301-6308.

Signed in Washington, DC, on November 26, 2019.
John Bashista,
Director, Office of Acquisition Management, Department of Energy.

[FR Doc. 2019-26908 Filed 12-12-19; 8:45 am]

BILLING CODE 6450-01-P